NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure—(25150).

Date and Time: June 15, 2006; 8 a.m.-5 p.m., June 16, 2006, 8 a.m.—2 p.m.

Place: National Science Foundation, 4201 Wilson Blvd., Room 1235, Arlington, VA 22230.

Type of Meeting: Open.

Contact Person: Judy Hayden, Office of the Director, Office of Cyberinfrastructure (CI), National Science Foundation, 4201 Wilson Blvd., Suite 1145, Arlington, VA 22230. Telephone: (703) 292-8970.

Minutes: May be obtained from the contact person listed above.

Purpose of Meeting: Retreat of the Board to brainstorm strategy direction. To advise NSF on the impact of its policies, programs and activities on the CI community. To provide advice to the Director/NSF on issues related to long-range planning, and to form ad hoc subcommittees to carry out needed studies and tasks.

Agenda: Report from the Director. Discussion of research initiatives, education, diversity workforce issues in CI and long-range funding outlook.

Dated: May 16, 2006.
Susanne Bolton,
Committee Management Officer.

[FR Doc. 06-4702 Filed 5-19-06; 8:45 am]

BILLING CODE 7555-01-M